FEDERAL EMERGENCY MANAGEMENT AGENCY

Cooperating Technical Partners Program

AGENCY: Federal Emergency Management Agency (FEMA).

ACTION: Notice of Cooperating Technical Partners Flood Hazard Mapping Program.

SUMMARY: FEMA gives notice of the requirements for the Cooperating Technical Partners Program (previously known as Cooperating Technical Communities initiative) for Fiscal Year (FY) 2002.

DATES: FEMA has $14 million available nationwide for funding partner projects in FY 2002.

FOR FURTHER INFORMATION CONTACT: The FEMA Regional Cooperating Technical Partners (CTP) Coordinators for your region. We list names, addresses, and telephone numbers for the Regional CTP Coordinators at the end of this Notice.

SUPPLEMENTARY INFORMATION:

Background

FEMA administers the National Flood Insurance Program (NFIP) and, under the authority of section 1360 of the National Flood Insurance Act of 1968 (42 U.S.C. 4101) establishes and updates flood-risk zone data in floodplain areas. In the identification of floodprone areas, we may consult with, receive information from and enter into agreements or other arrangements with the head of any State, regional, or local agency in order to identify these floodprone areas.

We are implementing the Cooperating Technical Partners (CTP) program as part of our Flood Map Modernization Program. The plan document for our Map Modernization Program and progress reports concerning the Program are available at http://www.fema.gov/library/mapmod.pdf. The program, previously known as the Cooperating Technical Communities program, formally recognizes and encourages the contributions that our Flood Hazard Mapping Partners (State agencies, regional agencies, tribal governments, and communities) make in developing timely and accurate flood hazard information. FEMA anticipates publishing regulations for this program by the end of fiscal year 2002. We strongly encourage partner contributions to flood hazard data development, which are a key part of the program.

Establishing formal partnerships with State, regional, and local organizations to produce NFIP maps is beneficial for the following reasons:

• The data used for local permitting and planning will also be the basis for the NFIP map, facilitating more efficient floodplain management;

• The CTP program provides the opportunity to interject a tailored, local focus into a national program; thus, where unique conditions may exist, we can take needed special approaches to flood hazard identification; and

• The partnership mechanism provides the opportunity to pool resources and extend the productivity of limited public funds.

Under this program, the partners will enter into a general overall agreement that recognizes the fundamental importance of flood hazard identification, flood insurance, and floodplain management. Then, through a collaborative process, the partners will identify the specific flood mapping activities to be undertaken. If this process results in CTP activities that we will support with FEMA funds, the partners will enter into a Cooperative Agreement and define the roles and responsibilities for each Flood Map Project through agreements termed Mapping Activity Statements. The intent of any Cooperative Agreement and accompanying funds that we award is to supplement and not to supplant ongoing mapping efforts by the community, regional agency, or State agency. Further, we envision that this collaborative process will maximize the extent, accuracy, and utility of flood studies to best meet local and Federal needs, while minimizing costs for all parties.

Additional guidance on the program is available at http://www.fema.gov/mit/tsd/ctp_main.htm.

Availability of Fiscal Year 2002 Funds

We have set aside approximately $15 million nationwide for use by all FEMA Regional Offices to fund CTP mapping activities in fiscal year 2002 (October 1, 2001 through September 30, 2002). We base the selection of CTP participants on floodplain mapping needs and capability to perform the types of eligible activities that we identified for the CTP program. A significant factor in the selection process will be the partner contribution to the project. We will provide funding to eligible CTP applicants through the Cooperative Agreement process in accordance with 44 CFR part 13, Uniform Administrative Requirements for Grants and Cooperative Agreements to State and Local Governments, which we will allocate as part of our flood study prioritization process. Upon publication of this notice, our Regional Offices will mail Request for Federal Assistance (RFA) packages to potential applicants.

Eligibility

Our Regional Offices will select partners based on the following criteria:

(1) The CTP applicant must be a community participating in the NFIP and be in good standing in the program as determined by FEMA, or be a State or regional agency that serves communities that participate in the NFIP.

(2) The CTP applicant must have existing processes or systems in place that support mapping or data collection activities that contribute to flood hazard identification. Non-federal funding must support these ongoing processes or systems.

(3) The CTP applicant must have the capability and commitment to perform the mapping activities for which it is applying. We require a demonstration of this capability, which an applicant may demonstrate through (but not limited to) a Regional Office review of both previously prepared map products and the applicant's existing processes or systems for the production of map products that the applicant intends to use for CTP activities.

(4) The CTP applicant that will receive funds under a Cooperative Agreement must be able to perform the financial management activities required as part of the Cooperative Agreement (i.e., account for Federal funds, prepare required performance and financial reports). Our Regional Offices can assist the communities with these financial management activities, if questions arise. FEMA-funded activities must meet the requirements of 44 CFR part 13. Part 13 sets forth requirements for proper grant administration and management including record-keeping, allowable costs, and the processes for use of contractors.

(5) The CTP applicant must have in-house staff capabilities in the appropriate technical area for the given activity. If the applicant contracts out a portion of the activities, the CTP applicant must have in-house staff capability to monitor the contractor as well as review and approve the resulting products. For these purposes, “capability” means “demonstrated experience in the performance, or management of, similar activities.”

(6) CTP applicants that use contactors to perform FEMA-funded activities must ensure that those contractors meet the requirements of 44 CFR Part 13. Within Part 13, section 13.36 covers procurement standards that must be followed for any mapping-related activities for which the CTP applicant wishes to contract with another party. Items in this part include contract administration and record-keeping, notification requirements, review procedures, competition, methods of procurement, and cost and pricing analysis. If desired, our Regional Offices will provide assistance on developing selection criteria for contracted tasks. All work must meet the standards and certification requirements described in Subsections Standards and Certification below.

Activities

As stated previously, Mapping Activity Statements will define the roles and responsibilities of the all partners, including contractors to the CTP applicant and FEMA, in the production or maintenance of flood hazard maps. FEMA support may include technical assistance, data, and funding.

(1) Funded Activities: In Fiscal Year 2002, the following mapping activities are eligible for funding:

Activity | Partner | Description
Refinement or Creation of Zone A | Community/Regional Agency/State Agency | The CTP works with FEMA to perform analyses to refine Zone A boundaries shown on the effective FIRM or create new Zone A areas to be included on the FIRM. We will emphasize automated analysis and production techniques.
Hydrologic & Hydraulic (Modeling and Floodplain Mapping) | Community/Regional Agency/State Agency | The CTP develops digital engineering data and floodplain mapping using Geographic Information System (GIS)-based or traditional hydrologic and hydraulic analysis methods.
Coastal Flood Hazard Analyses and Floodplain Mapping | Community/Regional Agency/State Agency | The CTP develops digital engineering data and floodplain mapping using GIS-based or traditional coastal flood hazard analysis methods.
Digital Flood Insurance Rate Map Preparation | Community/Regional Agency/State Agency | The CTP digitizes the effective hardcopy Flood Insurance Rate Map and prepares a Digital FIRM in accordance with FEMA specifications.
Re-delineation of Detailed Floodplain Boundaries Using Updated Topographic Data | Community/Regional Agency/State Agency | The CTP re-delineates the effective floodplain boundaries shown on the FIRM using more up-to-date topographic data. GIS technology is used, where available.

(2) Other Activities: While we will provide no funding to CTPs for the following mapping activities, we may provide technical assistance, support, and data to the CTP:

Activity | Partner | Description
Base Map Inventory | Regional Agency/State Agency | The CTP performs an investigation and provides an inventory of base maps meeting FEMA specifications for NFIP communities.
Digital Base Map Data Sharing | Regional Agency/State Agency | The CTP supplies a base map for DFIRM production. The base map will comply with FEMA's minimum accuracy requirements and be distributable by FEMA to the public in hardcopy and electronic formats.
DFIRM Maintenance | Community/Regional Agency/State Agency | The CTP assumes responsibility for long-term, periodic maintenance of the DFIRM. This can include base map and/or flood hazard information.
Hydrologic and Hydraulic Review Agreement (Pilot Activity) | Community/Regional Agency/State Agency | The CTP reviews hydrologic and hydraulic studies prepared for FEMA-funded flood data updates and/or map revisions processed under the NFIP regulations in 44 CFR 65. The review will focus on compliance with the technical and regulatory requirements contained in various FEMA flood mapping guidelines and specifications, the pertinent NFIP flood mapping regulations, as well as standard accepted engineering practices.
Assessment of Community Mapping Needs (to support FEMA's Mapping Needs Update Suppport System (MNUSS)) | Regional Agency/State Agency | The CTP performs a detailed community-by-community investigation and assessment of every NFIP community's mapping needs, including flood data updates, map maintenance, and includes unmapped communities. The CTP then submits the results of the assessment to FEMA for MNUSS database.
Technical Standards Agreement | Community/Regional Agency/State Agency | The CTP works with FEMA to adopt specific technical standards or processes appropriate for local conditions for NFIP flood mapping purposes.

Standards

Unless otherwise indicated in specific Mapping Activity Statements, all flood hazard identification activities will be accomplished according to the relevant portions of 44 CFR parts 59 through 77, as well as the technical standards contained in the most recent version of FEMA's Guidelines and Specifications for Flood Mapping Partners, which are set out at www.fema.gov/mit/tsd/dl_cgs.htm.

Certification

All data generated under CTP Mapping Activity Statements must meet the applicable certification requirements for the identification and publication of flood hazard information in Flood Insurance Rate Map (FIRM) form as indicated in 44 CFR 65, Identification and Mapping of Special Hazard Areas. For those States that have adopted more stringent mapping requirements that have been sanctioned by FEMA, all Mapping Activity Statements must be reviewed, coordinated with, and concurred upon by the State and all map products must meet State certification requirements.

Evaluation Criteria

Evaluation will be based on the following criteria:

(1) The continued maintenance (funded/supported by the CTP) for existing and/or future processes or systems in place to support mapping or data collection activities that contribute to flood hazard identification, e.g., continued data collection for changing flood hazards and related development, continued upgrades to data collection or mapping capabilities to incorporate new technologies, preparation of multi-year mapping or data collection plans, etc.;

(2) The demonstrated commitment by the CTP for existing and continued support of flood hazard identification and mapping activities conducted with and by FEMA;

(3) Adherence to timeliness and completeness of performance and to financial report submittals to the Regional Office;

(4) Adherence to timeliness and completeness of mapping product submittals to the Regional Office;

(5) Quality of product(s) submitted to the Regional Office; and

(6) Ability to cooperate and coordinate with the Regional Office, FEMA Hazard Mapping Division of the Federal Insurance and Mitigation Administration in Washington, and/or the FEMA Flood Map Production Coordination Contractor during all phases of the mapping activity as needed.

We will evaluate the performance of each CTP upon completion of the period of performance for each Mapping Activity Statement. This evaluation will determine the adequacy of the performance by the CTP and the eligibility for future Mapping Activity Statements to be initiated. Insufficient performance by the CTP may result in cancellation of FEMA funding at any point during the period of performance for a Mapping Activity Statement.

Cooperating Technical Partners Regional Contacts

The FEMA Regional Office contacts for the CTP programs are:

Region 1: (Connecticut, Maine, Massachusetts, New Hampshire, Rhode Island, and Vermont), Dean Savramis, 442 J.W. McCormack POCH, Boston, MA 02109, (telephone) (617) 223-9564, (e-mail) dean.savramis@fema.gov.

Region 2: (New Jersey, New York, Puerto Rico, Virgin Islands), Paul Weberg, 26 Federal Plaza, Room 1337, New York, NY 10278, (telephone) (212) 680-3638, (e-mail) paul.weberg@fema.gov.

Region 3: (Delaware, Maryland, Pennsylvania, Virginia, West Virginia, District of of Columbia), Martin Frengs, 615 Chestnut Street, 6th Floor, Philadelphia, PA 19106, (telephone) (215) 931-5532, (e-mail) marty.frengs@fema.gov.

Region 4: (Alabama, Florida, Georgia, Kentucky, Mississippi, North Carolina, South Carolina, Tennessee), Laura Algeo, 3003 Chamblee Tucker Rd., Atlanta, GA 30341, (telephone) (770) 220-5515, (e-mail) laura.algeo@fema.gov.

Region 5: (Illinois, Indiana, Michigan, Minnesota, Ohio, and Wisconsin), Ken Hinterlong, 536 S. Clark Street, 6th Floor, Chicago, IL 60605, (telephone) (312) 408-5529, (e-mail) ken.hinterlong@fema.gov.

Region 6: (Arkansas, Louisiana, New Mexico, Oklahoma, and Texas), Jack Quarles, FRC 800 North Loop 288, Denton, TX 76210, (telephone) (817) 898-5156, (email) jack.quarles@fema.gov.

Region 7: (Iowa, Kansas, Missouri, and Nebraska), Bob Franke, 2323 Grand Avenue, Suite 900, Kansas City, MO 64108, (telephone) (816) 283-7073, (e-mail) bob.franke@fema.gov.

Region 8: (Colorado, Montana, North Dakota, South Dakota, Utah, Wyoming), John Liou, Denver Federal Center, Bldg. 710, Box 25267, Denver, CO 80225, (telephone) (303) 235-4836, (e-mail) john.liou@fema.gov.

Region 9: (Arizona, California, Hawaii, Nevada, American Samoa, Guam), Les Sakumoto, Bldg. 105, Presidio of San Francisco, San Francisco, CA 94129, (telephone)(415) 923-7183, (e-mail) leslie.sakumoto@fema.gov.

Region 10: (Alaska, Idaho, and Oregon, Washington), Larry Basich, Federal Regional Center, 130-228th Street, Bothell, WA 98021, (telephone) (425) 487-4703, (e-mail) lawrence.basich@fema.gov.

Dated: April 24, 2002.
Robert F. Shea,
Deputy Administrator, Federal Insurance and Mitigation Administration.

[FR Doc. 02-10559 Filed 4-29-02; 8:45 am]

BILLING CODE 6718-04-P